DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Cancer Institute Special Emphasis Panel; Systems for Automated Storage, Analysis, and Reporting of Behavioral Exposures.

Date: June 5, 2013.

Time: 1:30 p.m. to 5:30 p.m.

Agenda: To review and evaluate contract proposals.

Place: National Institutes of Health, National Cancer Institute, 9609 Medical Center Drive, Room 5W30, Rockville, MD 20850, (Telephone Conference Call).

Contact Person: Ivan Ding, MD, Health Scientist Administrator, National Cancer Institute, Division of Extramural Activities, Program and Review Extramural Staff Training Office, 9609 Medical Center Dr., Room 7W412, MSC 9750, Bethesda, MD 20892-9750, 240-276-6444, dingi@mail.nih.gov.

Name of Committee: National Cancer Institute Special Emphasis Panel; Point of Care Analysis of Circulating Tumor Cells for Cancer Diagnostics, Prognosis and Treatment.

Date: June 7, 2013.

Time: 9:00 a.m. to 10:00 a.m.

Agenda: To review and evaluate contract proposals.

Place: National Institutes of Health, National Cancer Institute, 9609 Medical Center Drive, Room 7W640, Rockville, MD 20850, (Telephone Conference Call).

Contact Person: Ilda F. S. Melo, Ph.D., Scientific Review Officer, Research Training Review Branch, Division of Extramural Activities, National Cancer Institute, NIH, 9609 Medical Center Drive, Room 7W640, Bethesda, MD 20892, 240-276-6468 mckennai@mail.nih.gov.

Name of Committee: National Cancer Institute Special Emphasis Panel; Development of Devices of Care Analysis of Circulating Tumor Cells.

Date: June 7, 2013.

Time: 10:00 a.m. to 1:00 p.m.

Agenda: To review and evaluate contract proposals.

Place: National Institutes of Health, National Cancer Institute, 9609 Medical Center Drive, Room 7W640, Rockville, MD 20850, (Telephone Conference Call).

Contact Person: Ilda F. S. Melo, Ph.D., Scientific Review Officer, Research Training Review Branch, Division of Extramural Activities, National Cancer Institute, NIH, 9609 Medical Center Drive, Room 7W640, Bethesda, MD 20892, 240-276-6468, mckennai@mail.nih.gov.

Name of Committee: National Cancer Institute Special Emphasis Panel; Development of Clinical Automated Multiplex Affinity Capture Technology for Detecting Low Abundance Cancer-Related Proteins/Peptides.

Date: June 20, 2013.

Time: 1:00 p.m. to 5:00 p.m.

Agenda: To review and evaluate contract proposals.

Place: National Institutes of Health, National Cancer Institute, 9609 Medical Center Drive, Room 6W032, Rockville, MD 20852, (Telephone Conference Call).

Contact Person: Wlodek Lopaczynski, MD, Ph.D., Scientific Review Officer, Research Programs Review Branch, Division of Extramural Activities, National Cancer Institute, 9609 Medical Center Drive, Room 7W608, Bethesda, MD 20892, 240-276-6458, lopacw@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: May 7, 2013.
Melanie J. Gray,
Program Analyst, Office of Federal Advisory Committee Policy.

[FR Doc. 2013-11346 Filed 5-13-13; 8:45 am]

BILLING CODE 4140-01-P